SMALL BUSINESS ADMINISTRATION

[Declaration of Disaster #3594]

State of Wisconsin (Amendment #3)

In accordance with a notice received from the Department of Homeland Security—Federal Emergency Management Agency, effective October 13, 2004, the above numbered declaration is hereby amended to reopen the filing period for this disaster. The new deadline for filing applications for physical damage is November 8, 2004.

In addition, this amendment hereby establishes the incident period as beginning May 7, 2004 and continuing through July 3, 2004.

All other information remains the same, i.e., the deadline for filing applications for economic injury is March 21, 2005.

(Catalog of Federal Domestic Assistance Program Nos. 59002 and 59008)
Dated: October 14, 2004.
Cheri L. Cannon,
Acting Associate Administrator for Disaster Assistance.

[FR Doc. 04-23637 Filed 10-21-04; 8:45 am]

BILLING CODE 8025-01-P